DEPARTMENT OF ENERGY

Federal Energy Regulatory Commission

[Project No. 12470-001]

City of Broken Bow, OK; Notice of Application Tendered for Filing With the Commission

August 9, 2006.

Take notice that the following hydroelectric application has been filed with the Commission and is available for public inspection.

a. Type of Application: Original Major License.

b. Project No.: 12470-001.

c. Date Filed: July 26, 2006.

d. Applicant: City of Broken Bow, Oklahoma.

e. Name of Project: Broken Bow Re-Regulation Dam Hydropower Project.

f. Location: On the Mountain Fork River in McCurtain County, Oklahoma. The project would be located at the United States Army Corps of Engineers' (Corps) Broken Bow Re-Regulation Dam and would occupy lands administered by the Corps.

g. Filed Pursuant to: Federal Power Act 16 U.S.C. 791(a)-825(r).

h. Applicant Contact: Olen Hill, City Manager, City of Broken Bow, Oklahoma; 210 North Broadway; Broken Bow, Oklahoma 74728; (405) 584-2282.

i. FERC Contact: Peter Leitzke at (202) 502-6059, or peter.leitzke@ferc.gov.

j. Cooperating Agencies: We are asking Federal, state, local, and tribal agencies with jurisdiction and/or special expertise with respect to environmental issues to cooperate with us in the preparation of the environmental document. Agencies who would like to request cooperating status should follow the instructions for filing comments described in item (k) below. Cooperating agencies should note the Commission's policy that agencies that cooperate in the preparation of the environmental document cannot also intervene. See, 94 FERC ¶ 61,076 (2001).

k. Deadline for Filing Requests for Cooperating Agency Status: 60 days from the filing date shown in paragraph (c), or September 25, 2006.

All documents (original and eight copies) should be filed with: Magalie R. Salas, Secretary, Federal Energy Regulatory Commission, 888 First Street, NE., Washington, DC 20426.

Requests for Cooperating Agency Status may be filed electronically via the Internet in lieu of paper. The Commission strongly encourages electronic filing. See 18 CFR 385.2001(a)(1)(iii) and the instructions on the Commission's Web site (http://www.ferc.gov) under the “e-Filing” link. After logging into the e-Filing system, select “Comment on Filing” from the Filing Type Selection screen and continue with the filing process.

l. Status: This application is not ready for environmental analysis at this time.

m. Description of Project: The proposed run-of-river project, using the Corps' existing Broken Bow Re-Regulation Dam and Reservoir, would consist of: (1) Three 93.5-foot-long penstocks connecting to; (2) a 112-foot-wide by 129-foot-long powerhouse containing three turbine-generator units and having a total installed capacity of 4 megawatts; (3) a tailrace returning flows to the Mountain Fork River; (4) a 1,600-foot-long, 13.8-kilovolt transmission line or a 3.5-mile-long, 13.8 kilovolt transmission line; and (5) appurtenant facilities. The project would have an average annual generation of 17,450 megawatt-hours.

n. A copy of the application is available for review at the Commission in the Public Reference Room or may be viewed on the Commission's Web site at http://www.ferc.gov using the “eLibrary” link. Enter the docket number, excluding the last three digits in the docket number field (P-12470), to access the document. For assistance, contact FERC Online Support at FERCOnlineSupport@ferc.gov, or toll-free at 1-866-208-3676, or for TTY, (202) 502-8659. A copy is also available for inspection and reproduction at the address in item (h) above.

You may also register online at http://www.ferc.gov/esubscribenow.htm to be notified via e-mail of new filings and issuances related to this or other pending projects. For assistance, contact FERC Online Support.

o. With this notice, we are initiating consultation with the OKLAHOMA STATE HISTORIC PRESERVATION OFFICER (SHPO), as required by section 106, National Historic Preservation Act, and the regulations of the Advisory Council on Historic Preservation, 36 CFR 800.4.

p. Procedural schedule and final amendments: The application will be processed according to the following Hydro Licensing Schedule. Revisions to the schedule will be made if the Commission determines it necessary to do so:

Action | Tentative date
Issue Deficiency Letter | October 2006.
Request Additional Information | December 2006.
Issue Acceptance letter | January 2007.
Issue Scoping Document 1 for comments | March 2007.
Request Additional Information (if necessary) | May 2007.
Issue Scoping Document 2 (if necessary) | June 2007.
Notice that application is ready for environmental analysis | August 2007.
Notice of the availability of the draft EA | February 2008.
Notice of the availability of the final EA (if necessary) | June 2008.
Ready for Commission's decision on the application | June 2008.

Final amendments to the application must be filed with the Commission no later than 30 days from the issuance date of this notice.

Magalie R. Salas,
Secretary.

[FR Doc. E6-13378 Filed 8-15-06; 8:45 am]

BILLING CODE 6717-01-P